DEPARTMENT OF ENERGY

Federal Energy Regulatory Commission

[Docket No. CP02-20-000]

Iroquois Gas Transmission System, L.P.; Notice of Application

November 19, 2001.

Take notice that on November 8, 2001, Iroquois Gas Transmission System, L.P. (Iroquois), One Corporate Drive, Suite 600, Shelton, Connecticut 06484 filed in Docket No. CP02-20-000 an application pursuant to section 7(c) of the Natural Gas Act for a certificate of public convenience and necessity to construct and operate its Athens Expansion Project, all as more fully set forth in the application which is on file with the Commission and open to public inspection. This filing may also be viewed on the web at http://www.ferc.gov using the “RIMS” link, select “Docket#” and follow the instructions (call 202-208-2222 for assistance).

Specifically, Iroquois proposes to construct and operate a second compressor unit, with 10,000 horsepower, at the Athens, New York compressor station in order to provide up to 70,000 dekatherms per day of firm transportation service to Athens Generating Company, L.P. (Athens Generating). Iroquois states that Athens Generating is currently in the process of developing a natural gas -fired electric generating facility in the Town of Athens, New York. Further, Iroquois states that it has executed a Precedent Agreement with Athens Generating for a primary term of 15 years commencing September 1, 2003.

Iroquois estimates the cost of the Athens Project to be $16,484,000. Iroquois states that the transportation service to be made available by the construction of the proposed Athens Project will be performed pursuant to Iroquois' RTS Rate Schedule and associated General Terms and Conditions of Iroquois' FERC Gas Tariff, First Revised Volume No. 1. Iroquois further states that it proposes to charge its part 284 open-access RTS rates for the new service and to roll the costs and billing determinants associated with construction and operation of the compressor unit and associated facilities into the first section 4 rate proceeding which becomes effective after the in-service date of the proposed facilities.

Questions regarding the details of this proposed project should be directed to Jeffrey A. Bruner, Vice President, General Counsel and Secretary for Iroquois, One Corporate Drive, Suite 600, Shelton, Connecticut 06484 at (203) 925-7200 or Donald F. Santa, Jr., attorney for Iroquois, Troutman Saunders, LLP, 401 Ninth Street, NW., Suite 1000, Washington, DC 20004 at (202) 274-2815.

There are two ways to become involved in the Commission's review of this project. First, any person wishing to obtain legal status by becoming a party to the proceedings for this project should, on or before December 10, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-29309 Filed 11-23-01; 8:45 am]

BILLING CODE 6717-01-P